POSTAL REGULATORY COMMISSION

[Docket No. MC2023-12; Order No. 6326]

Market Dominant Product List

AGENCY: Postal Regulatory Commission.

ACTION: Notice.

SUMMARY: The Commission is recognizing a recent Postal Service filing requesting to add USPS Connect Local Mail as a new, permanent product to the Mail Classification Schedule and the request's dismissal.

FOR FURTHER INFORMATION CONTACT: David A. Trissell, General Counsel, at 202-789-6820.

SUPPLEMENTARY INFORMATION:

Table of Contents

I. Introduction

II. Commission Action

III. Ordering Paragraphs

I. Introduction

On October 11, 2022, the Postal Service filed a request with the Commission pursuant to 39 U.S.C. 3642 and 39 CFR 3045.18 to convert the experimental product offering USPS Connect Local Mail into a permanent product offering on the Mail Classification Schedule.¹ On October 17, 2022, the Commission dismissed the Request without prejudice, allowing the Postal Service to file an amended request if it so chose.²

¹ United States Postal Service Request to Convert USPS Connect Local Mail to a Permanent Offering, October 11, 2022 (Request).

² Order Dismissing Without Prejudice Postal Service's Request to Convert USPS Connect Local Mail Market Test to a Permanent Offering, October 17, 2022, at 5-6 (Order No. 6301).

On November 9, 2022, the Postal Service filed a revised request to convert USPS Connect Local Mail into a permanent offering, effective January 22, 2023.³ In support of its Revised Request, the Postal Service filed the following documents:

³ United States Postal Service Revised Request to Convert USPS Connect Local Mail to a Permanent Offering, November 9, 2022 (Revised Request).

• Attachment A—Proposed Changes to the Mail Classification Schedule;

• Attachment B—Market Test Quarterly Data Collection Reports;

• Attachment C—Resolution of the Governors of the United States Postal Service; and

• Attachment D—Statement of Supporting Justification

See Revised Request, Attachments A through D.

The USPS Connect Local Mail market test was initially authorized by the Commission on January 4, 2022.⁴ It is currently set to expire on January 8, 2024. Order No. 6080 at 20. USPS Connect Local Mail is a derivative of First-Class Mail that functions as an alternative to long-distance, end-to-end mailing for use by business mailers who wish to send mail locally with regular frequency. Order No. 6080 at 2. The Postal Service asserts that the USPS Connect Local Mail market test has proven successful and that it now wishes to insert the USPS Connect Local Mail product offering into the Mail Classification Schedule under section 1115 (Market Dominant Products: First-Class Mail: First-Class Mail Flats). Revised Request at 2. The Postal Service maintains that the USPS Connect Local Mail product meets all the conditions in 39 U.S.C. 3642 and 39 CFR 3045.18 for adding a non-experimental product based on an experimental product to the product list. Id. at 3-6. The Postal Service also, as required by 39 CFR 3045.18(e), filed a separate notice of the instant request in Docket No. MT2022-1.⁵ The planned rate for USPS Connect Local Mail is $2.95. Revised Request at 2-3.

⁴ Docket No. MT2022-1, Order Authorizing Market Test of Experimental Product—USPS Connect Local Mail, January 4, 2022 (Order No. 6080).

⁵ Docket No. MT2022-1, United States Postal Service Notice of Revised Request to Convert USPS Connect Local Mail to a Permanent Offering, November 9, 2022.

II. Commission Action

The Commission reopens Docket No. MC2023-12 to consider the Postal Service's Revised Request. Interested persons may submit comments on whether the Request is consistent with the policies of 39 U.S.C. 3642, 39 CFR 3045.18, and 39 CFR 3040.130 through .135. Comments are due by December 9, 2022.

The Request and related filings are available on the Commission's website (http://www.prc.gov). The Commission encourages interested persons to review the Request for further details.

The Commission appoints Mallory L. Smith to serve as Public Representative in this proceeding.

III. Ordering Paragraphs

It is ordered:

1. The Commission reopens Docket No. MC2023-12 for consideration of the United States Postal Service Revised Request to Convert USPS Connect Local Mail to a Permanent Offering, filed November 9, 2022.

2. Pursuant to 39 U.S.C. 505, Mallory L. Smith is appointed to serve as an officer of the Commission (Public Representative) to represent the interests of the general public in this proceeding.

3. Comments by interested persons are due by December 9, 2022.

4. The Secretary shall arrange for publication of this order in the Federal Register.

By the Commission.
Erica A. Barker,
Secretary.

[FR Doc. 2022-25115 Filed 11-17-22; 8:45 am]

BILLING CODE 7710-FW-P